DEPARTMENT OF ENERGY

Federal Energy Regulatory Commission

Sunshine Act Meeting

October 23, 2002.

The following notice of meeting is published pursuant to section 3(A) of the Government in the Sunshine Act (Pub. L. 94-409), 5 U.S.C. 552B:

AGENCY HOLDING MEETING: Federal Energy Regulatory Commission.

DATE AND TIME: October 30, 2002, 10 a.m.

PLACE: Room 2C, 888 First Street, NE., Washington, DC 20426.

STATUS: Open.

MATTERS TO BE CONSIDERED: Agenda

Note—Items listed on the agenda may be deleted without further notice.

CONTACT PERSON FOR MORE INFORMATION: Magalie R. Salas, Secretary, Telephone (202) 502-8400, for a recording listing items stricken from or added to the meeting, call (202) 502-8627.

This is a list of matters to be considered by the Commission. It does not include a listing of all papers relevant to the items on the agenda; however, all public documents may be examined in the Reference and Information Center.

809th—Meeting October 30, 2002, Regular Meeting, 10 a.m.

Administrative Agenda

A-1.

Docket#, AD02-1, 000, Agency Administrative Matters

A-2.

Docket#, AD02-7, 000, Customer Matters, Reliability, Security and Market Operations

A-3.

Docket#, AD02-22, 000, Midwest Energy Infrastructure Assessment

Markets, Tariffs and Rates—Electric

E-1.

Omitted

E-2.

Omitted

E-3.

Docket#, ER02-2541, 000, Midwest Independent Transmission System Operator, Inc.

E-4.

Docket#, ER02-1400, 000, Illinois Power Company

Other#s, ER02-1400, 001, Illinois Power Company

ER02-1400, 002, Illinois Power Company

E-5.

Docket#, OA96-158, 004, Entergy Services, Inc.

Other#s, OA97-657, 001, Entergy Services, Inc.

E-6.

Docket#, ER00-3591, 012, New York Independent System Operator, Inc.

Other#s, EL00-70, 008, New York Independent System Operator, Inc.

ER00-1969, 014, New York Independent System Operator, Inc.

ER00-3038, 007, New York Independent System Operator, Inc.

ER02-2081, 000, New York Independent System Operator, Inc.

E-7.

Docket#, EL00-95, 063, San Diego Gas & Electric Company, v. Sellers of Energy and Ancillary Services Into Markets Operated by the California Independent System Operator and the California Power Exchange

Other#s, EL00-95, 064, San Diego Gas & Electric Company, v. Sellers of Energy and Ancillary Services Into Markets Operated by the California Independent System Operator and the California Power Exchange

EL00-97, 005, Reliant Energy Power Generation, Inc., Dynegy Power Marketing, Inc., and Southern Energy California, L.L.C., v. California Independent System Operator Corporation

EL00-97, 006, Reliant Energy Power Generation, Inc., Dynegy Power Marketing, Inc., and Southern Energy California, L.L.C., v. California Independent System Operator Corporation

EL00-98, 052, Investigation of Practices of the California Independent System Operator and the California Power Exchange

EL00-98, 053, Investigation of Practices of the California Independent System Operator and the California Power Exchange

EL00-104, 010, California Electricity Oversight Board v. All Sellers of Energy and Ancillary Services Into the Energy and Ancillary Services Markets Operated by the California Independent System Operator and the California Power Exchange

EL00-104, 011, California Electricity Oversight Board v. All Sellers of Energy and Ancillary Services Into the Energy and Ancillary Services Markets Operated by the California Independent System Operator and the California Power Exchange

EL00-107, 011, Public Meeting in San Diego, California

EL00-107, 012, Public Meeting in San Diego, California

EL01-1, 011, California Municipal Utilities Association v. All Jurisdictional Sellers of Energy and Ancillary Services Into Markets Operated by the California Independent System Operator and the California Power Exchange

EL01-1, 012, California Municipal Utilities Association v. All Jurisdictional Sellers of Energy and Ancillary Services Into Markets Operated by the California Independent System Operator and the California Power Exchange

EL01-2, 005, Californians for Renewable Energy, Inc. (CARE), v. Independent Energy Producers, Inc., and All Sellers of Energy and Ancillary Services Into Markets Operated by the California Independent System Operator and the California Power Exchange; All Scheduling Coordinators Acting on Behalf of the Above Sellers; California Independent System Operator Corporation; and California Power Exchange Corporation

EL01-2, 006, Californians for Renewable Energy, Inc. (CARE), v. Independent Energy Producers, Inc., and All Sellers of Energy and Ancillary Services Into Markets Operated by the California Independent System Operator and the California Power Exchange; All Scheduling Coordinators Acting on Behalf of the Above Sellers; California Independent System Operator Corporation; and California Power Exchange Corporation

EL01-68, 015, Investigation of Wholesale Rates of Public Utility Sellers of Energy and Ancillary Services in the Western System Coordinating Council

EL01-68, 016, Investigation of Wholesale Rates of Public Utility Sellers of Energy and Ancillary Services in the Western System Coordinating Council

E-8.

Docket#, ER02-352, 003, Southern Company Services, Inc.

E-9.

Docket#, ER98-1438, 010, Midwest Independent Transmission System Operator, Inc.

Other#s et al., EL02-65, 000, Alliance Companies, et al.

E-10.

Docket#, ER98-1440, 000, Central Vermont Public Service Corporation

E-11.

Docket#, QF92-198, 004, Lake Cogen, Ltd.

Other#s, EL02-124, 000, Lake Cogen, Ltd.

E-12.

Docket#, EC02-71, 000, American Transmission Systems, Inc. and PJM Interconnection, L.L.C.

Other#s, ER02-1865, 000, American Transmission Systems, Inc. and PJM Interconnection, L.L.C.

E-13.

Omitted

E-14.

Docket#, ER99-4462, 001, California Independent System Operator Corporation

E-15.

Omitted

E-16.

Docket#, EC01-156, 001, Alliant Energy Corporate Services, Inc., MidAmerican Energy Company, Xcel Energy Services, Inc., and TRANSLink Transmission Company, L.L.C.

Other#s, ER01-3154, 001, Alliant Energy Corporate Services, Inc., MidAmerican Energy Company, Xcel Energy Services, Inc., and TRANSLink Transmission Company, L.L.C.

E-17.

Omitted

E-18.

Docket#, EL01-122, 003, PJM Interconnection L.L.C.

Other#s, EL01-122, 002, PJM Interconnection L.L.C.

EL01-122, 004, PJM Interconnection L.L.C.

E-19.

Docket#, ER02-1451, 001, Ameren Energy Marketing Company

E-20.

Docket#, ER02-1663, 001, Tampa Electric Company

Other#s, ER02-1663, 002, Tampa Electric Company

E-21.

Docket#, ER02-711, 002, American Electric Power Service Corporation

E-22.

Docket#, ER00-2360, 004, Pacific Gas and Electric Company

E-23.

Docket#, ER02-2064, 002, Choctaw Generation LP

E-24.

Docket#, OA02-8, 000, Allegheny Power Service Corporation, on behalf of Monongahela Power Company, The Potomac Edison Company and West Penn Power Company

E-25.

Docket#, RM01-8, 000, Filing Requirements for Electric Utility

E-26.

Docket#, EL00-95, 000, San Diego Gas & Electric Company v. Sellers of Energy and Ancillary Services into Markets Operated by the California Independent System Operator Corporation and the California Power Exchange

Other#s, EL00-95, 048, San Diego Gas & Electric Company v. Sellers of Energy and Ancillary Services into Markets Operated by the California Independent System Operator Corporation and the California Power Exchange

EL00-98, 000, Investigation of Practices of the California Independent System Operator and the California Power Exchange

EL00-98, 042, Investigation of Practices of the California Independent System Operator and the California Power Exchange

E-27.

Docket#, EL02-112, 000, FirstEnergy Solutions Corp. v. PJM Interconnection, L.L.C.

Other#s, EL02-120, 000, Edison Mission Energy v. PJM Interconnection, L.L.C.

E-28.

Docket#, EL02-125, 000, KeySpan Energy Development Corporation, KeySpan Ravenswood, LLC, New York Power Authority, Electric Power Supply Association, and Independent Power Producers of New York, Inc., v. New York Independent System Operator, Inc.

E-29.

Docket#, EL02-122, 000, Sithe Power Marketing, L.P., and Exelon Generation Company, LLC v. ISO New England, Inc.

E-30.

Docket#, EL02-116, 000, Cargill Alliant, LLC v. New York Independent System Operator, Inc.

E-31.

Docket#, RM95-8, 006, Promoting Wholesale Competition Through Open Access Non-Discriminatory Transmission Services by Public Utilities

Other#s, RM94-7, 007, Recovery of Stranded Costs by Public Utilities and Transmitting Utilities

E-32.

Docket#, PL02-7, 000, Standard of Review for Proposed Changes to Market-Based Rate Contracts for Wholesale Sales of Electric Energy by Public Utilities

E-33.

Docket#, EL00-24, 000, Village of Jackson Center, Ohio, Village of Versailles, Ohio, Village of Arcanum, Ohio, Village of Eldorado, Ohio, Village of Lakeview, Ohio, Village of Mendon, Ohio, Village of Minster, Ohio, Village of New Bremen, Ohio, Village of Waynesfield, Ohio and Village of Yellow Springs, Ohio v. Dayton Power & Light Company

E-34.

Docket#, ER02-766, 000, Florida Power & Light Company

Other#s, ER02-766, 001, Florida Power & Light Company

ER02-766, 002, Florida Power & Light Company

ER02-766, 003, Florida Power & Light Company

ER02-766, 004, Florida Power & Light Company

E-35.

Docket#, ER97-1523, 063, Central Hudson Gas & Electric Corporation, Consolidated Edison Co., of New York, Inc., Long Island Power Authority, New York State Electric & Gas Corporation, Niagara Mohawk Power Corporation, Orange and Rockland Utilities, Inc., and Rochester Gas and Electric Corporation

Other#s, OA97-470, 058, Central Hudson Gas & Electric Corporation, Consolidated Edison Co., of New York, Inc., Long Island Power Authority, New York State Electric & Gas Corporation, Niagara Mohawk Power Corporation, Orange and Rockland Utilities, Inc., and Rochester Gas and Electric Corporation

ER97-4234, 056, Central Hudson Gas & Electric Corporation, Consolidated Edison Co., of New York, Inc., Long Island Power Authority, New York State Electric & Gas Corporation, Niagara Mohawk Power Corporation, Orange and Rockland Utilities, Inc., and Rochester Gas and Electric Corporation

E-36.

Docket#, EL02-78, 000, New York State Electric & Gas Corporation v. New York State Electric and Gas Corporation

E-37.

Docket#, EL02-74, 001, Colton Power L.P., and City of Colton, CA v. Southern California Edison Co.

E-38.

Docket#, ER97-2358, 004, Pacific Gas and Electric Company

Other#s, ER97-2355, 006, Southern California Edison Company

ER97-2364, 005, San Diego Gas & Electric Company

ER97-4235, 003, San Diego Gas & Electric Company

ER97-4235, 004, San Diego Gas & Electric Company

ER98-497, 004, San Diego Gas & Electric Company

ER98-2322, 002, Southern California Edison Company

ER98-2351, 002, Pacific Gas and Electric Company

ER98-2371, 002, San Diego Gas & Electric Company

ER97-2358, 003, Pacific Gas and Electric Company

ER98-2351, 003, Pacific Gas and Electric Company

ER97-2355, 004, Southern California Edison Company

ER98-2322, 001, Southern California Edison Company

ER97-2364, 004, San Diego Gas & Electric Company

ER98-497, 003, San Diego Gas & Electric Company

ER98-2371, 001, San Diego Gas & Electric Company

E-39.

Docket#, EL02-91, 000, Williams Energy Marketing & Trading Company v. Southern Company Services, Inc.

E-40.

Docket#, ER01-315, 001, Southern California Edison Company

E-41.

Docket#, SC00-1, 000, North Western Energy, LLC

E-42.

Docket#, ER02-2519, 000, PJM Interconnection L.L.C.

Other#s, ER02-2519, 001, PJM Interconnection L.L.C.

ER02-2519, 002, PJM Interconnection L.L.C.

E-43.

Docket#, ER02-2536, 000, Bank of America, N.A.

Miscellaneous Agenda

M-1.

Docket#, RM02-7, 000, Accounting, Financial Reporting and Rate Filing Requirements for Asset Retirement Obligations

Markets, Tariffs and Rates—Gas

G-1.

Omitted

G-2.

Docket#, RP99-301, 055, ANR Pipeline Company

G-3.

Docket#, RP99-301, 056, ANR Pipeline Company

G-4.

Docket#, RP02-568, 000, Black Marlin Pipeline Company

G-5.

Omitted

G-6.

Omitted

G-7.

Docket#, RP03-7, 000, Natural Gas Pipeline Company of America

G-8.

Docket#, RP02-543, 000, Northern Border Pipeline Company

G-9.

Docket#, RP02-532, 000, Guardian Pipeline, L.L.C.

Other#s, RP02-534, 000, Guardian Pipeline, L.L.C.

G-10.

Docket#, RP02-550, 000, Tennessee Gas Pipeline Company

G-11.

Docket#, RP02-331, 000, PG&E Gas Transmission, Northwest Corporation

Other#s, RP02-331, 001, PG&E Gas Transmission, Northwest Corporation

G-12.

Docket#, RP96-200, 087, CenterPoint Energy Gas Transmission Company

G-13.

Docket#, RP03-10, 000, Gulf South Pipeline Company, LP

G-14.

Docket#, RP03-12, 000, Kinder Morgan Interstate Gas Transmission LLC

G-15.

Omitted

G-16.

Omitted

G-17.

Docket#, RP02-515, 000, Texas Gas Transmission Corporation

G-18.

Omitted

G-19.

Docket#, RP03-6, 000, Maritimes & Northeast Pipeline, L.L.C.

G-20.

Docket#, RP03-4, 000, Panhandle Eastern Pipe Line Company

G-21.

Docket#, RP95-197, 045, Transcontinental Gas Pipe Line Corporation

Other#s, RP97-71, 037, Transcontinental Gas Pipe Line Corporation

G-22.

Omitted

G-23.

Omitted

G-24.

Docket#, RP00-411, 001, Iroquois Gas Transmission System, Inc.

Other#s, RP01-44, 003, Iroquois Gas Transmission System, Inc.

G-25.

Omitted

G-26.

Docket#, RP02-335, 000, ANR Pipeline Company

Other#s, RP02-335, 001, ANR Pipeline Company

G-27.

Docket#, RP02-4, 002, Maritimes & Northeast Pipeline, L.L.C.

G-28.

Docket#, RP00-337, 003, Kern River Gas Transmission Company

Other#s, RP00-337, 004, Kern River Gas Transmission Company

RP01-93, 003, Kern River Gas Transmission Company

RP01-93, 004, Kern River Gas Transmission Company

G-29.

Docket#, RP02-99, 004, Shell Offshore Inc., v. Transcontinental Gas Pipe Line Corp., Williams Gas Processing—Gulf Coast Co., L.P., Williams Field Services Co., and Williams Gulf Coast Gathering Co., L.L.C.

G-30.

Docket#, RP01-180, 001, San Diego Gas & Electric Company

Other#s, RP01-180, 000, San Diego Gas & Electric Company

RP01-222, 000, Los Angeles Department of Water and Power

RP01-223, 000, National Association of Gas Consumers v. All Sellers of Natural Gas in the United States of America in Interstate Commerce

G-31.

Docket#, RP00-632, 010, Dominion Transmission, Inc.

G-32.

Omitted

G-33.

Docket#, MG02-4, 000, Williston Basin Interstate Pipeline Company

G-34.

Omitted

G-35.

Docket#, RM98-10, 011, Regulation of Short-Term Natural Gas Transportation Services, and Regulation of Interstate Natural Gas Transportation Services

G-36.

Docket#, RP02-567, 000, High Island Offshore System, L.L.C.

G-37.

Docket#, CP02-17, 002, Texas Eastern Transmission, LP

Other#s, CP02-45, 002, Texas Eastern Transmission, LP

G-38.

Docket#, RP00-494, 001, Williams Gas Pipelines Central, Inc.

G-39.

Docket#, RP99-324, 000, Gulf South Pipeline Company, LP.

Other#s, RP99-324, 001, Gulf South Pipeline Company, LP.

RP99-324, 002, Gulf South Pipeline Company, LP.

RP99-324, 003, Gulf South Pipeline Company, LP.

G-40.

Docket#, RP02-573, 000, Northern Natural Gas Company

Energy Projects—Hydro

H-1.

Omitted

H-2.

Docket#, P-9974, 049, Halsted Construction, Inc.

H-3.

Omitted

H-4.

Docket#, UL00-3, 003, Homestake Mining Company

Other#s, UL00-4, 003, Homestake Mining Company

H-5.

Docket#, P-2816, 017, North Hartland, L.L.C.

H-6.

Docket#, P-1984, 083, Wisconsin Department of Natural Resources v. Wisconsin River Power Company

H-7.

Docket#, P-2661, 012, Pacific Gas and Electric Company

H-8.

Docket#, P-6058, 005, Hydro Development Group, Inc.

H-9.

Docket#, P-6059, 006, Hydro Development Group, Inc.

H-10.

Docket#, P-2738, 049, New York State Electric & Gas Corporation

Energy Projects—Certificates

C-1.

Docket#, CP02-426, 000, Columbia Gas Transmission Corporation

Other#s, CP02-425, 000, Equitable Gathering, L.L.C.

C-2.

Docket#, CP02-31, 000, Iroquois Gas Transmission System, L.P.

C-3.

Docket#, CP02-381, 000, Texas Eastern Transmission, L.P.

C-4.

Omitted

C-5.

Docket#, CP02-396, 000, Greenbrier Pipeline Company, LLC

Other#s, CP02-397, 000, Greenbrier Pipeline Company, LLC

CP02-398, 000, Greenbrier Pipeline Company, LLC

C-6.

Docket#, CP00-232, 005, Iroquois Gas Transmission System, L.P.

Other#s, CP00-232, 006, Iroquois Gas Transmission System, L.P.

C-7.

Omitted

C-8.

Docket#, CP02-391, 000, Natural Gas Pipeline Company of America

Magalie R. Salas,
Secretary.

[FR Doc. 02-27670 Filed 10-25-02; 4:16 pm]

BILLING CODE 6717-01-P